DEPARTMENT OF ENERGY

Federal Energy Regulatory Commission

[Docket No. RP02-368-000]

Midwestern Gas Transmission Company; Notice of Proposed Changes in FERC Gas Tariff

July 2, 2002.

Take notice that on June 24, 2002, Midwestern Gas Transmission Company (Midwestern) tendered for filing to become part of its FERC Gas Tariff, Third Revised Volume No. 1, the following tariff sheets, with an effective date of August 1, 2002:

Second Revised Sheet No. 5

First Revised Sheet No. 54

First Revised Sheet No. 64

First Revised Sheet No. 73

First Revised Sheet No. 410

First Revised Sheet No. 411

First Revised Sheet No. 415

First Revised Sheet No. 416

Original Sheet No. 416A

Midwestern is proposing revised tariff sheets to revise and update the form of Exhibit A of Midwestern's Firm Gas Transportation Agreement and to add an Exhibit A to the form of the Interruptible Gas Transportation Agreement in order to clearly state the terms of a transportation agreement without necessitating that agreements be filed as non-conforming agreements. In addition, Midwestern proposes to revise provisions in its tariff to allow the Company and shipper to mutually agree to a negotiated Fuel Retention and Loss Quantity percentage. Midwestern states that it is at risk for the recovery of the gas used for its system operations and lost and unaccounted for gas. Midwestern states that this proposal does not impact or increase the cost to the other shippers for fuel and loss and unaccounted gas. Any transportation agreements that contain a negotiated Fuel Retention and Loss Quantity percentage will be indicated on the list of Negotiated Rates Agreements and filed with the Commission.

Midwestern states that the proposed changes will provide more flexibility and greater ease for shippers to contract for transportation service.

Midwestern states that copies of this filing have been sent to all of Midwestern's contracted shippers and interested state regulatory commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-17172 Filed 7-8-02; 8:45 am]

BILLING CODE 6717-01-P